DEPARTMENT OF COMMERCE

National Oceanic and Atmospheric Administration

RIN: 0648-XC25

Pacific Fishery Management Council; Public Meeting/Workshop

AGENCY: National Marine Fisheries Service (NMFS), National Oceanic and Atmospheric Administration (NOAA), Commerce.

ACTION: Notice of a public meeting.

SUMMARY: A Groundfish Stock Assessment Review (STAR) Panel will hold a work session which is open to the public. The STAR Panel will review new assessments for the southern portion of the black rockfish stock and blue rockfish off California, as well as rebuilding analyses for seven overfished West Coast rockfish species.

DATES: The STAR Panel meeting will begin at 12:30 p.m. on October 1, 2007 and will continue through October 5, 2007. The meeting will start at 8:30 a.m. each day (except October 1, when the panel convenes at 12:30 p.m.) and end at 5 p.m. each day, or as necessary to complete business.

ADDRESSES: The STAR Panel meeting will be held at the NOAA Western Regional Center's Sand Point Facility, Building 4, Jim Traynor Seminar Room, 7600 Sand Point Way N.E., Seattle, WA 98115-6349.

Council address: Pacific Fishery Management Council, 7700 NE Ambassador Place, Suite 101, Portland, OR 97220-1384.

FOR FURTHER INFORMATION CONTACT: Ms. Stacey Miller, Northwest Fisheries Science Center (NWFSC); telephone: (206) 437-5670; or Mr. John DeVore, Pacific Fishery Management Council; telephone: (503) 820-2280.

SUPPLEMENTARY INFORMATION: The purpose of the STAR Panel meeting is to review draft stock assessments for the southern portion of the black rockfish stock in waters off California and Oregon, the blue rockfish stock in waters off California, and draft rebuilding analyses for bocaccio, canary rockfish, cowcod, darkblotched rockfish, Pacific ocean perch, widow rockfish, and yelloweye rockfish; work with the Stock Assessment Teams and rebuilding analysis authors to make necessary revisions; and produce STAR Panel reports for use by the Council family and other interested persons. No management actions will be decided by this STAR Panel. The STAR Panel's role will be development of recommendations and reports for consideration by the Council at its November meeting in San Diego, CA.

Although non-emergency issues not contained in the meeting agenda may come before the STAR Panel participants for discussion, those issues may not be the subject of formal STAR Panel action during these meetings. STAR Panel action will be restricted to those issues specifically listed in this notice and any issues arising after publication of this notice that require emergency action under Section 305(c) of the Magnuson-Stevens Fishery Conservation and Management Act, provided the public has been notified of the STAR Panel participants' intent to take final action to address the emergency.

Special Accommodations

This meeting is physically accessible to people with disabilities. Requests for sign language interpretation or other auxiliary aids should be directed to Ms. Carolyn Porter at (503) 820-2280 at least 5 days prior to the meeting date.

Dated: September 6, 2007.
Tracey L. Thompson,
Acting Director, Office of Sustainable Fisheries, National Marine Fisheries Service.

[FR Doc. E7-17839 Filed 9-10-07; 8:45 am]

BILLING CODE 3510-22-S